DEPARTMENT OF COMMERCE

Economic Development Administration

Agency Information Collection Activities; Submission for OMB Review; Comment Request; Comprehensive Economic Development Strategies (CEDS)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 21, 2024 during a 60-day comment period. This notice allows for an additional 30 days for public comments.

Agency: Economic Development Administration, Department of Commerce.

Title: Comprehensive Economic Development Strategies (CEDS).

OMB Control Number: 0610-0093.

Form Number(s): None.

Type of Request: Regular submission; Extension of a currently approved collection.

Number of Respondents: 527.

Average Hours per Response: 480 hours for the initial CEDS for a District organization or other planning organization funded by EDA; 160 hours for the CEDS revision required at least every 5 years from an EDA-funded District or other planning organization; 40 hours per CEDS update and performance report; and 40 hours per applicant for EDA Public Works or Economic Adjustment Assistance with a project deemed by EDA to merit further consideration that is not located in an EDA-funded District.

Burden Hours: 31,640.

Needs and Uses: A Comprehensive Economic Development Strategy (CEDS) is required for an eligible applicant to qualify for an EDA investment assistance under EDA's Public Works program, Economic Adjustment Assistance program, and certain planning programs (42 U.S.C. 3162), and is a prerequisite for a region's designation by EDA as an Economic Development District (see 13 CFR part 303, 13 CFR 305.2, and 13 CFR 307.2). EDA collects information under this information collection to ensure compliance with EDA's CEDS requirements.

Affected Public: (1) Cities or other political subdivisions of a state, including a special purpose unit of state or local government engaged in economic or infrastructure development activities; (2) states; (3) institutions of higher education; (4) public or private non-profit organizations or associations; (5) District Organizations; and (6) Indian Tribes.

Frequency: One time, although some are periodic.

Respondent's Obligation: Mandatory.

Legal Authority: The Public Works and Economic Development Act of 1965 (42 U.S.C. 3121 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0093.

Sheleen Dumas,
Departmental PRA Compliance Officer, Office of the Under Secretary of Economic Affairs, Commerce Department.

[FR Doc. 2025-03113 Filed 2-25-25; 8:45 am]

BILLING CODE 3510-24-P